DEPARTMENT OF EDUCATION

34 CFR Chapter III

[Docket ID ED-2015-OSERS-0035]

Proposed Priority—Rehabilitation Training: Institute on Rehabilitation Issues

AGENCY: Office of Special Education and Rehabilitative Services, Department of Education.

ACTION: Proposed priority.

[CFDA Number: 84.264C.]

SUMMARY: The Assistant Secretary for Special Education and Rehabilitative Services proposes a priority to establish a topical Institute on Rehabilitation Issues (IRI). The Assistant Secretary may use this priority for competitions in fiscal year (FY) 2015 and later years. We take this action to provide training and technical assistance (TA) to improve the capacity of State Vocational Rehabilitation (VR) agencies and their partners to equip individuals with disabilities with the skills and competencies necessary to help them obtain competitive integrated employment.

DATES: We must receive your comments on or before June 25, 2015.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery:

If you mail or deliver your comments about these proposed regulations, address them to Kristen Rhinehart-Fernandez, U.S. Department of Education, 400 Maryland Avenue SW., Room 5027, Potomac Center Plaza (PCP), Washington, DC 20202-2800.

Privacy Note: The Department's policy is to make all comments received from members of the public available for public viewing in their entirety on the Federal eRulemaking Portal at www.regulations.gov. Therefore, commenters should be careful to include in their comments only information that they wish to make publicly available.

FOR FURTHER INFORMATION CONTACT: Kristen Rhinehart-Fernandez. Telephone: (202) 245-6103 or by email: Kristen.Rhinehart@ed.gov.

If you use a telecommunications device for the deaf (TDD) or a text telephone (TTY), call the Federal Relay Service (FRS), toll free, at 1-800-877-8339.

SUPPLEMENTARY INFORMATION: Invitation to Comment: We invite you to submit comments regarding this notice. To ensure that your comments have maximum effect in developing the notice of final priority, we urge you to identify clearly the specific section of the proposed priority that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about these proposed regulations by accessing Regulations.gov. You may also inspect the comments in person in Room 5042, 550 12th Street SW., PCP, Washington, DC 20202-2800, between the hours of 8:30 a.m. and 4:00 p.m., Washington, DC time, Monday through Friday of each week except Federal holidays. Please contact the person listed under FOR FURTHER INFORMATION CONTACT.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: Under the Rehabilitation Act of 1973, as amended (the Rehabilitation Act), the Rehabilitation Services Administration (RSA) makes grants to States and public or nonprofit agencies and organizations (including institutions of higher education) to support projects that provide training, traineeships, and TA designed to increase the numbers of, and improve the skills of, qualified personnel (especially rehabilitation counselors) who are trained to: Provide vocational, medical, social, and psychological rehabilitation services to individuals with disabilities; assist individuals with communication and related disorders; and provide other services authorized under the Rehabilitation Act.

Program Authority: 29 U.S.C. 772(a)(1).

Applicable Program Regulations: 34 CFR part 385.

Proposed Priority: This notice contains one proposed priority.

Institute on Rehabilitation Issues.

Background: For more than 55 years, the Institute on Rehabilitation Issues (IRI) has been a national forum for discussing the important challenges facing the State VR Services Program. The IRI has also developed publications for use in training and TA for VR counselors, consumers, administrators, and other partners in the VR process. IRI publications have provided a unique perspective on emerging issues and promising practices in VR and are widely used by counselors and supervisors, human resource development (HRD) specialists, community-based rehabilitation service providers, administrators, researchers, and education and policy analysts (The George Washington University and University of Arkansas CURRENTS, 2015).

The Workforce Innovation and Opportunity Act of 2014 (WIOA) places a greater emphasis on incorporating job-driven training approaches into the VR service delivery system and on increasing employment outcomes for individuals with disabilities. One of these approaches includes working with employers to create on-the-job training opportunities that are responsive to the needs of employers and that provide individuals with skills that they need to obtain competitive integrated employment (Biden, 2014). An IRI that concentrates on the topic of on-the-job training activities for individuals with disabilities, such as paid internships, pre-apprenticeships, and registered apprenticeships, is both timely and critical for assisting State VR agencies in successfully incorporating job-driven training approaches.

Individuals with disabilities continue to be underrepresented in the general workforce as well as in high-growth industries. Recent estimates reported by the Bureau of Labor Statistics (BLS) from the Current Employment Statistics Survey (February 2015), show a labor force participation rate of 31.1 percent for people with disabilities ages 16 to 64, compared to 75.7 percent for people without disabilities. Similarly, the unemployment rate for people with disabilities (12.2 percent) is more than double the rate for people without disabilities (5.7 percent). In addition, analyses conducted by the Council of Economic Advisors that matched BLS 2012-2022 occupational projections with 2010-2012 American Community Survey data (Disability Community Project) revealed that people with disabilities who are employed tend to be in low-paying occupations and are overrepresented in slower-growing and declining occupations, which lowers their projected employment growth rate. People with disabilities are also underrepresented in 16 of the top 20 fastest-growing occupations.

Despite these trends, information indicates that there is substantial potential for job growth among people with disabilities in well-paying occupations over the coming decade. However, whether such potential will be realized depends in part on such factors as public and corporate policies regarding access to appropriate education, computer skills, and other training; disability income policies; and the availability of workplace accommodations and other employment supports.

Research demonstrates that when students with disabilities participate in internships they increase their motivation to work toward a career, their knowledge of career options, their job skills, their ability to work with supervisors and coworkers, and their knowledge of accommodation strategies (Burgstahler and Bellman, 2009). Furthermore, apprenticeships are a proven path to employment and the middle class: 87 percent of apprentices are employed after completing their programs, and the average starting wage for apprenticeship graduates is over $50,000. Studies from other countries show that employers reap an average return of $1.47 in increased productivity and performance for every dollar they invest in apprenticeships. Unfortunately, too few American workers and employers have access to this proven training solution to prepare for better careers or to meet their needs for a skilled workforce (Biden, 2014). The IRI would provide State VR agencies with the tools and TA they need to connect individuals with disabilities to on-the-job training experiences in areas of growth or projected growth that align with their skill sets and interests and the needs and demands of business and industry.

References:

Biden, J. (2014). Ready to Work: Job-Driven Training and American Opportunity, July 2014. Available at: www.whitehouse.gov/sites/default/files/skills_report_072014_2.pdf.

Burgstahler, S. and Bellman, S. (2009). Differences in Perceived Benefits of Internships for Subgroups of Students with Disabilities. Journal of Vocational Rehabilitation, 31, 155-165.

The George Washington University and the University of Arkansas Center for the Utilization of Rehabilitation Resources for Education, Networking, Training and Service Institute on Rehabilitation Issues (UACURRENTS) (2015). Institute on Rehabilitation Issues. Available at: www.iriforum.org/mission.aspx.

U.S. Department of Labor (DOL). (2015). Economic New Release: Table A-6. Employment status of the civilian population by sex, age and disability status, not seasonally adjusted. Available at: www.bls.gov/news.release/empsit.t06.htm.

U.S. Department of Labor (DOL), Office of Disability Employment Policy (ODEP). New Disability Employment Data Resources. Economic Picture of the Disability Community Project. Available at: www.dol.gov/odep/topics/DisabilityEmploymentStatistics.htm.

Proposed Priority: The purpose of this priority is to fund a two-year cooperative agreement to establish a topical Institute on Rehabilitation Issues (IRI) that concentrates on the subject of on-the-job training activities for individuals with disabilities, such as paid internships, pre-apprenticeships, and registered apprenticeships. As a result of this concentrated IRI, State VR agencies will gain practical knowledge and technical assistance (TA) resources needed to increase the number of work-based learning experiences for individuals with disabilities in high-growth fields that lead to competitive integrated employment,” as that term is defined in section 7(5) of the Rehabilitation Act of 1973, as amended.

Project Activities

Under this priority, the IRI must, at a minimum, conduct the following activities:

Knowledge Development Activities.

(a) Within the first year, conduct a survey of State VR agencies and their partners to ascertain the number and types of on-the-job training activities currently available to individuals with disabilities and the outcomes associated with completion of those activities.

(1) Collect, at a minimum, the following data:

(i) The number of individuals with disabilities who are currently engaged in on-the-job training activities;

(ii) The specific types of on-the-job training activities the individuals referred to in paragraph (a)(1)(i) are participating in, such as paid internships, pre-apprenticeships, and registered apprenticeships;

(iii) The number of individuals with disabilities who participated in on-the-job-training activities in the last 36 months;

(iv) The number of individuals with disabilities who successfully completed on-the-job training activities in the last 36 months, including the specific types of the on-the-job training;

(v) The number of individuals with disabilities who obtained competitive integrated employment in the last 36 months after successfully completing on-the-job training activities;

(vi) The number of individuals with disabilities who did not successfully complete on-the-job training activities in the last 36 months;

(vii) The number of State VR agency referrals to on-the-job training activities in the last 36 months;

(viii) The number of on-the-job training activities developed through partnerships between the State VR agencies and businesses in the last 36 months;

(ix) The average length of time an individual with a disability participated in an on-the-job training activity in the last 36 months; and

(x) The industries represented in the on-the-job training activities.

(2) By the end of the first year, identify any State VR agencies that have not responded to the survey and follow-up with those agencies in order to ensure at least a 75 percent response rate.

(b) In the beginning of the second year, follow up with State VR agencies that indicated that on-the-job training activities were developed through partnerships between the State VR agencies and businesses to collect:

(1) Promising practices for creating, implementing, sustaining, and evaluating on-the-job training experiences for individuals with disabilities; and

(2) Information about how on-the-job training activities have supported employer efforts to hire individuals with disabilities.

(c) In the beginning of the second year, follow up with State VR Agencies that indicated that individuals with disabilities did not successfully complete on-the-job training activities to identify challenges or barriers that prevented successful completion of on-the-job training activities.

(d) In the second year, conduct an analysis of the survey results and any additional information collected through follow-up and develop a summary report.

(e) Within the first year, complete a literature review.

(1) The literature review must gather, at a minimum:

(i) Promising practices and examples for creating, implementing, sustaining, and evaluating on-the-job training activities for individuals with disabilities;

(ii) Qualitative or quantitative data about how on-the-job training activities have supported employer efforts to hire individuals with disabilities; and

(iii) Data on increased employment and retention outcomes that occurred after completing on-the-job training activities, especially for individuals with disabilities.

(2) The literature review must consider the following resources:

(i) Curriculum guides developed by RSA's Job-Driven Vocational Rehabilitation Technical Assistance Center (JDVRTAC), as available;

(ii) The Vice President's report, “Ready to Work: Job-Driven Training and American Opportunity,” July 2014;

(iii) New disability employment data resources including, but not limited to, the Economic Picture of the Disability Community Project developed by the Office of Disability Employment Policy (ODEP); and

(iv) Other relevant data sources and publications including, but not limited to, promising practices and examples of on-the-job training experiences developed through the public workforce development system, as well as through public-private partnerships.

(f) Within the first six months of the second year, develop a compendium designed for use by all levels of State VR agency personnel. The compendium must, at a minimum:

(1) Include promising practices, publications, examples, and other relevant materials that will support State VR agencies in creating, implementing, sustaining, and evaluating on-the-job training activities for individuals with disabilities;

(2) Compare and contrast the data collected from the survey conducted in the first year of the grant with any research and data collected from the literature review so that State VR agencies can assess their progress towards incorporating job-driven training approaches into their service delivery system and increasing employment outcomes for individuals with disabilities; and

(3) Include examples of how on-the-job training activities have supported employer efforts to hire individuals with disabilities.

Technical Assistance and Dissemination Activities

(a) Provide two TA Webinars that are recorded, archived, and made available to State VR agencies, providers of training, and relevant partners. The Webinars must focus on the survey that must be conducted within the first year of the grant and include detail such as the purpose of the survey, its design and methodology, the process for disseminating the survey, instructions for completing the survey, the submission deadline, and the timeline for conducting any necessary follow-up, analyzing the responses, and developing a report. The Webinars must also serve as a vehicle for gathering input and feedback and answering questions.

(b) Provide two TA Webinars that are recorded, archived, and made available to State VR agencies, providers of training, and relevant partners that detail the results and analyses of the survey of the current status of existing on-the-job training activities for individuals with disabilities in State VR agencies, as well as how State VR agencies might use this data to inform their job-driven activities.

(c) Collect input and feedback on the draft compendium. The project must use a variety of vehicles, such as Webinars, teleconferences, online forums, and focus groups to engage State VR agencies, providers of training, and relevant partners in this process.

(d) Provide two TA Webinars that are recorded, archived, and made available to State VR agencies, providers of training, and relevant partners that highlight promising practices, publications, examples, and resource materials contained in the compendium.

(e) Provide two TA Webinars that are recorded, archived, and made available to State VR agencies, providers of training, and relevant partners and that feature real-world examples of successful on-the-job training activities for individuals with disabilities created through public-private partnerships and outcomes resulting from those activities. The Webinars also must include examples of how on-the-job training activities have supported employer efforts to hire individuals with disabilities.

(f) Ensure that all products (i.e., survey results, compendium, TA Webinars) developed are widely disseminated to counselors and supervisors, Human Resource Development (HRD) specialists, community-based rehabilitation service providers, administrators, researchers, education and policy analysts, and other RSA job-driven projects, such as the JDVRTAC. To the extent possible, track the number and type of product recipients.

(g) Ensure that all products are made available in accessible formats and submitted to the National Clearinghouse on Rehabilitation Training Materials (NCRTM).

Coordination Activities

(a) Establish and maintain an on-the-job training community of practice through the NCRTM as a vehicle for communication, exchange of information, and dissemination of products and as a forum for collecting promising practices in implementing, sustaining, and evaluating on-the-job training activities.

(b) Obtain regular input and feedback from State VR agencies, providers of training, partners, such as the Council of State Administrators of Vocational Rehabilitation (CSAVR) and CSAVR's National Employment Team (the NET), the National Council of State Agencies for the Blind (NCSAB), the JDVRTAC, and other relevant entities in the survey and literature review, as well as in the development and dissemination of the survey analysis and the compendium described in this priority.

(c) Maintain ongoing communication with RSA.

Application Requirements

To be funded under this priority, applicants must meet the application requirements in this priority. RSA encourages innovative approaches to meet these requirements, which are:

(a) Demonstrate in the narrative section of the application under “Significance of the Proposed Project” how the proposed project will address State VR agencies' capacity to develop on-the-job training activities for individuals with disabilities that reflect the current and future demands of the labor market. To meet this requirement, the applicant must:

(1) Demonstrate knowledge of today's labor market, including current and projected areas of job growth and knowledge, skills, and experiences that are needed in order to meet the needs and demands of business and industry;

(2) Demonstrate knowledge of innovative or promising practices in building and maintaining effective on-the-job training activities, especially for individuals with disabilities; and

(3) Demonstrate the extent to which the proposed project is likely to build the capacity of State VR agencies to provide, strengthen, and increase the number of on-the-job training activities for individuals with disabilities.

(b) Demonstrate, in the narrative section of the application under “Quality of Project Services,” how the proposed project will achieve its goals, objectives, and intended outcomes. To meet this requirement, the applicant must:

(1) Provide a detailed plan for how the proposed project will conduct the activities required in this priority. The plan must include a description of the design and methodology that will be used to survey State VR agencies in the first year, rationale to support the survey design and methodology, a strategy for disseminating the survey to all State VR agencies, a strategy to ensure a 75 percent survey response rate, and an approach for conducting follow-up with State VR agencies;

(2) Demonstrate the extent to which the project activities reflect innovative and up-to-date approaches, methods, technologies, and effective practices;

(3) Demonstrate how the literature review will identify and incorporate promising practices and examples of the use of on-the-job training gathered from the public workforce development system and from business and industry in creating, implementing, sustaining, and evaluating on-the-job training activities for individuals with disabilities;

(4) Demonstrate how the project will collect Web analytics, including the number of registrants and their respective agencies or associations, and conduct a survey immediately following the Webinars to measure the quality, relevance, and usefulness of the training; and

(5) Demonstrate the extent to which the project services are maximized through collaboration with the partners and stakeholders discussed in this priority.

(c) Demonstrate, in the narrative section of the application under “Adequacy of Project Resources,” how the proposed key project personnel, consultants, and subaward recipients have the qualifications and experience to perform the activities to provide State VR agencies with the tools and resources they need to increase the on-the-job training activities for individuals with disabilities. To meet this requirement, the applicant must demonstrate that:

(1) The applicant and any key partners possess adequate resources to carry out the proposed activities; and

(2) The proposed costs are reasonable in relation to the anticipated results and benefits.

(d) Demonstrate, in the narrative section of the application under “Quality of the Management Plan,” how the proposed management plan will ensure that the project's intended outcomes will be achieved on time and within budget. To address this requirement, the applicant must describe—

(1) Clearly defined roles and responsibilities for key project personnel, consultants, and subawards, as applicable;

(2) Timelines and milestones for accomplishing the project tasks;

(3) Key project personnel and any consultants, key partners, and subaward recipients that will be allocated to the project, their respective level of effort designated for the project, and how these allocations are appropriate and adequate to achieve the project's intended outcomes, including an assurance that all personnel will communicate with stakeholders and RSA in a timely fashion;

(4) How the proposed management plan will ensure that the knowledge development, TA, dissemination, and coordination activities and the developed products are of high quality; and

(5) The diversity of perspectives, including those of counselors and supervisors, HRD specialists, community-based rehabilitation service providers, administrators, researchers, and education and policy analysts that the project will consider in its design making process.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Paperwork Reduction Act of 1995

As part of its continuing effort to reduce paperwork and respondent burden, the Department conducts a preclearance consultation program to provide the general public and Federal agencies with an opportunity to comment on proposed and continuing collections of information in accordance with the Paperwork Reduction Act of 1995 (PRA) (44 U.S.C. 3506(c)(2)(A)). This helps ensure that the public understands the Department's collection instructions, respondents can provide the requested data in the desired format, reporting burden (time and financial resources) is minimized, collection instruments are clearly understood, and the Department can properly assess the impact of collection requirements on respondents.

This proposed priority contains information collection requirements that are approved by OMB under OMB control number 1820-0018; this proposed regulation does not affect the currently approved data collection.

Regulatory Impact Analysis

Under Executive Order 12866, the Secretary must determine whether this proposed regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only on a reasoned determination that its benefits would justify its costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

We propose to fund through this priority TA to State VR agencies to improve the quality of VR services and ultimately the number and quality of their employment outcomes. This proposed priority would promote the efficient and effective use of Federal funds.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 18, 2015.
Sue Swenson,
Acting Assistant Secretary for Special Education and Rehabilitative Services.

[FR Doc. 2015-12510 Filed 5-22-15; 8:45 am]

BILLING CODE 4000-01-P